DEPARTMENT OF AGRICULTURE

Rural Housing Service

7 CFR Parts 1806, 1822, 1902, 1925, 1930, 1940, 1942, 1944, 1951, 1955, 1956, 1965, 3560, and 3565

RIN 0575-AC13

Reinvention of the Sections 514, 515, 516 and 521 Multi-Family Housing Programs

AGENCY: Rural Housing Service, USDA.

ACTION: Interim final rule; extension of comment period.

SUMMARY: The comment period for the interim final rule is being extended an additional 30 days from December 27, 2004, in order to provide opportunities for further comment on this rule and its criteria. This interim final rule was published in the Federal Register on November 26, 2004, (69 FR 69032).

DATES: Comments on the interim final rule must be received on or before January 26, 2005, to be assured of consideration.

ADDRESSES: You may submit comments to this rule by any of the following methods:

• Agency Web Site: http://rdinit.usda.gov/regs/. Follow the instructions for submitting comments on the Web site.

• E-Mail: comments@usda.gov. Include the RIN number (0575-AC13) in the subject line of the message.

• Federal eRulemaking Portal: http://www.regulations.gov. Follow the instructions for submitting comments.

• Mail: Submit written comments via Federal Express Mail or another mail courier service requiring a street address to the Branch Chief, Regulations and Paperwork Management Branch, U.S. Department of Agriculture, 300 7th Street, SW, 7th Floor, Suite 701, Washington, DC 20024.

All written comments will be available for public inspection during regular work hours at the 300 7th Street, SW., address listed above.

FOR FURTHER INFORMATION CONTACT: Sue Harris-Green, Deputy Director, Multi-Family Housing Direct Loan Division, Rural Housing Service, U.S. Department of Agriculture, Room 1241, South Building, Stop 0781, 1400 Independence Avenue, SW., Washington, DC 20250-0781, telephone (202) 720-1660.

SUPPLEMENTARY INFORMATION: In the Federal Register dated November 26, 2004, the Rural Housing Service (RHS) published an interim final rule which had the intent of streamlining and reengineering its regulations, as well as utilizing several private sector processes and techniques in the administration of the origination, management, servicing, and preservation of its Multi-Family Housing programs. These programs include the section 515 Rural Rental Housing (RRH) loan program, the section 514/516 Farm Labor Housing loan and grant program, and the section 521 Rental Assistance (RA) program. This interim final rule combines the provisions of the Streamlining and Consolidation of the sections 514, 515, 516, and 521 Multi-Family Housing (MFH) Programs Proposed Rule published on June 2, 2003, and the Operating Assistance for Off-Farm Migrant Farmworker Projects Proposed Rule published on November 2, 2000.

Due to the complex nature of the changes in the regulation, it is in the best interest of the public to extend the period of time in which comments will be accepted. Initially, the comment period was to end on December 27, 2004. The revised ending date for the receipt of comments is now January 26, 2005.

Dated: December 16, 2004.
Gilbert Gonzalez,
Acting Under Secretary, Rural Development.

[FR Doc. 04-28240 Filed 12-27-04; 8:45 am]

BILLING CODE 3410-XV-U